DEPARTMENT OF HEALTH AND HUMAN SERVICES

Health Resources and Services Administration

Agency Information Collection Activities: Submission to OMB for Review and Approval; Public Comment Request; NURSE Corps Scholarship Program; Information Collection Request Title: Nurse Corps Scholarship Program, OMB No. 0915-0301—Revision

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than April 26, 2018.

ADDRESSES: Submit your comments, including the ICR Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Nurse Corps Scholarship Program (NCSP) OMB No. 0915-0301—Revision.

Abstract: The NCSP, administered by HRSA's Bureau of Health Workforce, provides scholarships to nursing students in exchange for a minimum 2-year full-time service commitment (or part-time equivalent), at an eligible health care facility with a critical shortage of nurses (i.e., a Critical Shortage Facility (CSF)). The scholarship consists of payment of tuition, fees, other reasonable educational costs, and a monthly support stipend. Program recipients are required to fulfill NCSP service commitments at CSFs, which are located in the 50 States, the District of Columbia, Guam, the Commonwealth of Puerto Rico, the Northern Mariana Islands, the U.S. Virgin Islands, American Samoa, the Federated States of Micronesia, the Republic of the Marshall Islands, and the Republic of Palau.

Need and Proposed Use of the Information: The NCSP collects data to determine an applicant's eligibility for the program, monitor a participant's continued enrollment in a school of nursing, monitor the participant's compliance with the NCSP service obligation, and prepare annual reports to Congress. The following information will be collected: (1) From the schools, on a quarterly basis—general applicant and nursing school data such as full name, location, tuition/fees, and enrollment status; (2) from the schools, on an annual basis—data concerning tuition/fees and overall student enrollment status; and (3) from the participants and their employing CSF on a biannual basis—data concerning the participant's employment status, work schedule, and leave usage.

The revision to this clearance package will incorporate one new form and one updated form. The CSF Verification Form will be used to verify participant transfers to CSFs. The Initial Employment Verification Form has been revised to include all eligible service site types listed in the NCSP Application and Program Guidance.

Likely Respondents: NCSP scholars in school, graduates, educational institutions, and CSFs.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Eligible Applications/Application Program Guidance | 2,600 | 1 | 2,600 | 2 | 5,200
School Enrollment Verification Form | 500 | 4 | 2,000 | .33 | 660
Confirmation of Interest Form | 250 | 1 | 250 | .2 | 50
Data Collection Worksheet Form | 500 | 1 | 500 | 1 | 500
Graduation Close Out Form | 200 | 1 | 200 | .17 | 34
Initial Employment Verification Form | 500 | 1 | 500 | .42 | 210
Employer—Participant Service Verification Form | 1,000 | 2 | 2,000 | .12 | 240
CSF Verification Form | 200 | 1 | 200 | .2 | 40
Total | 5,750 |  | 8,250 |  | 6,934

Amy McNulty,
Acting Director, Division of the Executive Secretariat.

[FR Doc. 2018-06077 Filed 3-26-18; 8:45 am]

BILLING CODE 4165-15-P